DEPARTMENT OF HEALTH AND HUMAN SERVICES

Centers for Disease Control and Prevention

[Docket Number NIOSH-033-A]

Revised Document Posted: NIOSH List of Antineoplastic and Other Hazardous Drugs in Healthcare Settings 2012

AGENCY: National Institute for Occupational Safety and Health (NIOSH) of the Centers for Disease Control and Prevention (CDC), Department of Health and Human Services (HHS).

ACTION: Notice of issuance of Final Guidance Publication.

SUMMARY: The National Institute for Occupational Safety and Health (NIOSH) of the Centers for Disease Control and Prevention (CDC) announces the publication of the following document entitled “NIOSH List of Antineoplastic and Other Hazardous Drugs in Healthcare Settings 2012.” NIOSH is making available a copy of Appendix A at http://www.cdc.gov/niosh/docs/2012-150.

Background: The NIOSH Alert: NIOSH published Preventing Occupational Exposures to Antineoplastic and Other Hazardous Drugs in Health Care Settings in September 2004 (http://www.cdc.gov/niosh/docs/2004-165/). Appendix A of this Alert defined hazardous drugs and provided a list of drugs that were considered hazardous and required special handling. In 2010, NIOSH published an update to this list (http://www.cdc.gov/niosh/docs/2010-167/). Since publishing the 2010 update to the list, NIOSH reviewed approximately 70 new drugs that received FDA approval and approximately 180 drugs that received new special warnings (usually black box warnings) based on reported adverse effects in patients covering the time period from October 2007 to December 2009. From this list of approximately 250 drugs, NIOSH determined 26 drugs to have one or more characteristics of a hazardous drug. In addition, NIOSH removed 15 drugs from the 2012 list because they did not meet the NIOSH definition, were no longer available in the U.S or were regulated by other government entities. NIOSH published this preliminary list for comment in NIOSH Docket Number 190.

After expert panel review, public review and comment, and review of the scientific literature, NIOSH has developed a revised list of hazardous drugs. Along with drugs initially identified in the 2010 Hazardous Drug List, NIOSH is adding a total of 26 new drugs to the 2012 NIOSH List of Hazardous Drugs and is deleting 15 drugs.

This guidance document does not have the force and effect of law.

FOR FURTHER INFORMATION CONTACT: Barbara MacKenzie, NIOSH, Robert A. Taft Laboratories, 4676 Columbia Parkway, MS-C26, Cincinnati, OH 45226, Telephone (513) 533-8132, email hazardousdrugs@cdc.gov.

Dated: June 20, 2012.
John Howard,
Director, National Institute for Occupational Safety and Health, Centers for Disease Control and Prevention.

[FR Doc. 2012-15651 Filed 6-26-12; 8:45 am]

BILLING CODE 4163-19-P